DEPARTMENT OF AGRICULTURE

Forest Service

Notice of Mineral County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Lolo National Forest's Mineral County Resource Advisory Committee will meet on December 2, 2003 at 6 p.m. until 7:30 p.m. in Superior, Montana for a business meeting. The meeting is open to the public.

DATES: December 2, 2003.

ADDRESSES: The meeting will be held at the Mineral County Courthouse, 300 River Street, Superior, MT 59872.

FOR FURTHER INFORMATION CONTACT: Robert Harper, Designated Forest Official (DFO), District Ranger, Lolo National Forest, at (406) 822-4233.

SUPPLEMENTARY INFORMATION: Agenda topics for this meeting include a discussion of the Blacktail Weed Spread and Erosion project (funded in 02); review of Pub. L. 106-393; and discussion about new project proposals, as authorized under Title II of Pub. L. 106-393. If the meeting location is changed, notice will be posted in local newspapers, including the Mineral Independent and the Missoulian.

Dated: November 13, 2003.
Deborah L.R. Austin,
Designated Federal Official.

[FR Doc. 03-28862 Filed 11-18-03; 8:45 am]

BILLING CODE 3410-11-M